DEPARTMENT OF COMMERCE

International Trade Administration

[A-570-909]

Certain Steel Nails from the People's Republic of China: Extension of Time Limit for Preliminary Results of the First Antidumping Duty Administrative Review

AGENCY: Import Administration, International Trade Administration, Department of Commerce.

EFFECTIVE DATE: March 26, 2010.

FOR FURTHER INFORMATION CONTACT: Emeka Chukwudebe or Matthew Renkey, AD/CVD Operations, Office 9, Import Administration, International Trade Administration, U.S. Department of Commerce, 14th Street and Constitution Avenue, N.W., Washington, DC 20230; telephone: (202) 482-0219 and (202) 482-2312, respectively.

SUPPLEMENTARY INFORMATION:

Background

On September 22, 2009, the Department of Commerce (“Department”) initiated the first administrative review of the antidumping duty order on certain steel nails from the PRC encompassing 158 companies for the period, January 23, 2008, to July 31, 2009. See Initiation of Antidumping and Countervailing Duty Administrative Reviews and Request for Revocation in Part, 74 FR 48224, (September 22, 2009) (“Initiation Notice”). On February 16, 2010, the Department issued a memorandum that tolled the deadlines for all Import Administration cases by seven calendar days due to the recent Federal Government closure. See Memorandum for the Record from Ronald Lorentzen, DAS for Import Administration, Tolling of Administrative Deadlines as a Result of the Government Closure During the Recent Snowstorm, dated February 12, 2010. As a result, the preliminary results are currently due on May 10, 2010.

Extension of Time Limits for Preliminary Results

Section 751(a)(3)(A) of the Tariff Act of 1930, as amended (“Act”), and 19 CFR 351.213(h)(1) direct the Department to issue the preliminary results in an administrative review of an antidumping duty order 245 days after the last day of the anniversary month of the order for which the administrative review was requested. The Department may, however, extend the deadline for completion of the preliminary results of an administrative review to 365 days if it determines it is not practicable to complete the review within the foregoing time period. See section 751(a)(3)(A) of the Act and 19 CFR 351.214(h)(2).

The Department finds that it is not practicable to complete the preliminary results within this time limit. The Department is extending the deadline because the Department twice had to select an additional respondent for individual examination, which has significantly delayed the receipt of the original questionnaire responses. Additionally, the Department requires further time to issue and receive responses to supplemental questionnaires as well as to receive and analyze surrogate country and surrogate value comments. We are therefore extending the time for the completion of the preliminary results of this review by 120 days to September 7, 2010. The final results continue to be due 120 days after the publication of the preliminary results.

This notice is published in accordance with section 751(a)(3)(A) of the Act and 19 CFR 351.213(h)(2).

Dated: March 22, 2010.
John M. Andersen,
Acting Deputy Assistant Secretary for Antidumping and Countervailing Duty Operations.

[FR Doc. 2010-6797 Filed 3-25-10; 8:45 am]

BILLING CODE 3510-DS-S